DEPARTMENT OF ENERGY

Secretary of Energy Advisory Board Natural Gas Subcommittee

AGENCY: Department of Energy.

ACTION: Notice of open meeting.

SUMMARY: This notice announces an open meeting of the Secretary of Energy Advisory Board (SEAB) Natural Gas Subcommittee. SEAB was reestablished pursuant to the Federal Advisory Committee Act (Pub. L. 92-463, 86 Stat. 770) (the Act). This notice is provided in accordance with the Act.

DATES:

Wednesday, June 1, 2011

10 a.m.-12 p.m.

1:30 p.m.-4 p.m.

Thursday, June 2, 2011

10 a.m.-12 p.m.

1 p.m.-4 p.m.

ADDRESSES: Department of Energy, 1000 Independence Avenue, SW., Washington, DC 20585.

FOR FURTHER INFORMATION CONTACT: Renee Stone, Deputy Designated Federal Officer, U.S. Department of Energy, 1000 Independence Avenue, SW., Washington, DC 20585; e-mail to: shalegas@hq.doe.gov or at the following Web site: http://www.shalegas.energy.gov.

SUPPLEMENTARY INFORMATION: Background: The SEAB was reestablished to provide advice and recommendations to the Secretary on the Department's basic and applied research, economic and national security policy, educational issues, operational issues and other activities as directed by the Secretary. The Natural Gas Subcommittee was established to provide advice and recommendations to the Full Board on how to improve the safety and environmental performance of natural gas hydraulic fracturing from shale formations, thereby harnessing a vital domestic energy resource while ensuring the safety of citizen's drinking water and the health of the environment. President Obama directed Secretary Chu to convene this group as part of the President's “Blueprint for a Secure Energy Future”—a comprehensive plan to reduce America's oil dependence, save consumers money, and to make our country the leader in clean energy industries.

Purpose of the Meeting: The purpose of this meeting is to allow Subcommittee members to hear directly from natural gas stakeholders.

Tentative Agenda: The meeting will start at 10 a.m. on June 1, 2011. The tentative meeting agenda includes presentations from industry representative and environmental groups. From approximately 10 a.m. to 12 p.m., the Subcommittee will hear presentations from industry representatives. From 1:30 p.m. to 3:30 p.m., the Subcommittee will hear presentations from the environmental community. The second day of the meeting, June 2, 2011, will begin at 10 a.m. The tentative meeting agenda includes presentations from States from 10 a.m. to 12 p.m. and 1 p.m. to 3:30 p.m. The meeting will conclude at 4 p.m. both days.

Public Participation: The meeting is open to the public. Individuals who would like to attend must RSVP to no later than 5 p.m. on Monday, May 30, 2011, by e-mail to: shalegas@hq.doe.gov. An early confirmation of attendance will help facilitate access to the building more quickly. Please provide your name, organization, citizenship and contact information. Space is limited. Anyone attending the meeting will be required to present government issued identification. Individuals and representatives of organizations who would like to offer comments and suggestions may do so at the end of the meeting on Wednesday, June 1, 2011 and Thursday, June 2, 2011. Approximately 30 minutes will be reserved each day for public comments. Time allotted per speaker will depend on the number of individuals who wish to speak but will not exceed 5 minutes. The Designated Federal Officer is empowered to conduct the meeting in a fashion that will facilitate the orderly conduct of business. Those wishing to speak should register to do so beginning at 9:30 a.m. on June 1, 2011.

Those not able to attend the meeting or have insufficient time to address the committee are invited to send a written statement to Renee Stone, U.S. Department of Energy, 1000 Independence Avenue, SW., Washington DC 20585, by e-mail to: shalegas@hq.doe.gov.

This notice is being published less than 15 days prior to the meeting date due to programmatic issues and members' availability.

Issued at Washington, DC on May 23, 2011.
LaTanya Butler,
Acting Deputy Committee Management Officer.

[FR Doc. 2011-13298 Filed 5-27-11; 8:45 am]

BILLING CODE 6450-01-P